DEPARTMENT OF COMMERCE

National Oceanic and Atmospheric Administration

RIN 0648-XC989

North Pacific Fishery Management Council; Public Meeting

AGENCY: National Marine Fisheries Service (NMFS), National Oceanic and Atmospheric Administration (NOAA), Commerce.

ACTION: Notice of a public meeting.

SUMMARY: The North Pacific Fishery Management Council (Council) Individual Fishing Quota (IFQ) Implementation Team will meet in Anchorage, AK.

DATES: The meeting will be held on December 9, 2013, from 8:30 a.m. to 12 p.m.

ADDRESSES: The meeting will be held at the Council conference room, 650 W. 4th Avenue, Room 205, Anchorage, AK.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The Team will review:

1. A May 2013 discussion paper on increasing the use caps for sablefish “A” (freezer vessel) QS and identify other approaches to maximize use of all sablefish IFQs;

2. Two proposals previously submitted to the Council to revise Federal regulations to

a. Calculate maximum retainable allowances at the time of offload rather than during a fishing trip, as currently required and

b. Increase the halibut and sablefish IFQ vessel caps, as the amount of IFQs each vessel may harvest has declined over time under lower catch limits; and

3. An Observer Committee proposal to allow “clean up” of IFQ trips across IPHC Area 4 subareas. Committee recommendations will be provided for Council review during its December 2013 meeting. Information for the meeting is posted at http://www.alaskafisheries.noaa.gov/npfmc/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: November 19, 2013.
Tracey L. Thompson,
Acting Deputy Director, Office of Sustainable Fisheries, National Marine Fisheries Service.

[FR Doc. 2013-28070 Filed 11-21-13; 8:45 am]

BILLING CODE 3510-22-P